DEPARTMENT OF EDUCATION

Submission for OMB Review; Comment Request

AGENCY: Department of Education.

ACTION: Correction notice.

SUMMARY: On February 26, 2010, the Department of Education published a 30-day comment period notice in the Federal Register (Page 8928, Column 3) seeking public comment for an information collection entitled, “Native American Career and Technical Education Program (NACTEP)”. This notice is hereby cancelled. NACTEP 1830-0542 is the application portion of the NACTEP grant. The application does not need extension as it is the performance reporting stage of the grant. The performance report will need its own OMB number and run under a full clearance with a 60-day/30-day public comment period. The application will be discontinued until reinstatement in 2012. The Acting Director, Information Collection Clearance Division, Regulatory Information Management Services, Office of Management, hereby issues a correction notice as required by the Paperwork Reduction Act of 1995.

Dated: March 11, 2010.
James Hyler,
Acting Director, Information Collection Clearance Division, Regulatory Information Management Services, Office of Management.

[FR Doc. 2010-5714 Filed 3-15-10; 8:45 am]

BILLING CODE 4000-01-P